DEPARTMENT OF JUSTICE

Antitrust Division

Notice Pursuant to the National Cooperative Research and Production Act of 1993—Z-Wave Alliance

Notice is hereby given that, on June 14, 2024, pursuant to section 6(a) of the National Cooperative Research and Production Act of 1993, 15 U.S.C. 4301 et seq. (“the Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances. Specifically, Consumer 2.0 DBA Rently.com, Los Angeles, CA; Hearo, Springfield, MO; and Nabu Casa, Inc., Dover, DE, have joined as parties to the venture.

Also, System and Network Engineering Srl, Roma, ITALY; Swidget Corp., Kingston, CANADA; Sky Telecom Ingenieria S.L., Bilbao-Vizcaya, SPAIN; HELTUN, Inc., Los Altos Hills, CA; iGuard Home Solutions, Inc., Seattle, WA; Guangzhou MCOHome Technology Co., LTD., Guangzhou, PEOPLE'S REPUBLIC OF CHINA; Hangzhou Roombanker Technology Co., Ltd., Hangzhou City, PEOPLE'S REPUBLIC OF CHINA; Leak Intelligence LLC, Franklin, TN; SHENZHEN NEO ELECTRONICS CO., LTD., Shenzhen, PEOPLE'S REPUBLIC OF CHINA; EcoDim, Doetinchem, THE NETHERLANDS; ZWaveProducts.com, Iselin, NJ; SHARP FUKUYAMA SEMICONDUCTOR CO., LTD., Fukuyama, JAPAN; Sharp Corporation, Osaka-fu, JAPAN; JEEDOM SAS, Rillieux La Pape, FRANCE; Shenzhen Sunricher Technology Limited, Shenzhen, PEOPLE'S REPUBLIC OF CHINA; Springs Window Fashions, LLC, Middleton, WI; ZOME Energy Networks, Inc., Hollis, NH; Sentegrate Pty Ltd., NSW, AUSTRALIA; Beaumotica, Breda, THE NETHERLANDS; Smart Home SA, Gland, SWITZERLAND; Buffalo, Inc., Nagoya, JAPAN; Oy K1 Services Ab, Jakobstad, FINLAND; JV Innovation LLC, East Wakefield, NH; Hank Smart Tech Co. Ltd., Shenzhen, PEOPLE'S REPUBLIC OF CHINA; Duke Energy Business Services LLC, Charlotte, NC; Masonite Corporation, Tampa, FL; and Passiv UK Limited, Newbury, UNITED KINGDOM, have withdrawn as parties to the venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on January 26, 2024. A notice was published in the Federal Register pursuant to section 6(b) of the Act on March 13, 2024 (89 FR 18438).

Suzanne Morris,
Deputy Director Civil Enforcement Operations, Antitrust Division.

[FR Doc. 2024-16602 Filed 7-26-24; 8:45 am]

BILLING CODE 4410-11-P